DEPARTMENT OF TRANSPORTATION

Federal Aviation Administration

14 CFR Part 39

[Docket No. FAA-2008-0834; Directorate Identifier 2007-SW-78-AD]

RIN 2120-AA64

Airworthiness Directives; Agusta S.p.A. Model A109A and A109A II Helicopters

AGENCY: Federal Aviation Administration (FAA), DOT.

ACTION: Notice of proposed rulemaking (NPRM).

SUMMARY: We propose to adopt a superseding airworthiness directive (AD) for the specified Agusta S.p.A. (Agusta) model helicopters. This proposed AD results from a revised mandatory continuing airworthiness information (MCAI) originated by an aviation authority to identify and correct an unsafe condition on an aviation product. The aviation authority of Italy, with which we have a bilateral agreement, reports that the previous MCAI should not apply to newly redesigned and improved tail rotor blades. This action proposes the same inspection requirements as the current AD but would limit the applicability to only three part-numbered tail rotor blades. The proposed AD would require actions that are intended to prevent fatigue failure of a tail rotor blade (blade), loss of a tail rotor, and subsequent loss of control of the helicopter.

DATES: We must receive comments on this proposed AD by September 5, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Agusta, 21017 Cascina Costa di Samarate (VA) Italy, Via Giovanni Agusta 520, telephone 39 (0331) 229111, fax 39 (0331) 229605-222595.

Examining the AD Docket: You may examine the AD docket on the Internet at http://www.regulations.gov, or in person at the Docket Operations office between 9 a.m. and 5 p.m., Monday through Friday, except Federal holidays. The AD docket contains this proposed AD, the economic evaluation, any comments received, and other information. The street address for the Docket Operations office (telephone (800) 647-5527) is in the ADDRESSES section. Comments will be available in the AD docket shortly after receipt.

FOR FURTHER INFORMATION CONTACT: Sharon Miles, Aviation Safety Engineer, FAA, Rotorcraft Directorate, Regulations and Guidance Group, Fort Worth, Texas 76193-0111, telephone (817) 222-5122, fax (817) 222-5961.

Comments Invited

We invite you to send any written relevant data, views, or arguments about this proposed AD. Send your comments to an address listed under the ADDRESSES section. Include “Docket No. FAA-2008-0834; Directorate Identifier 2007-SW-78-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Ente Nazionale Per L'Aviazione Civile (ENAC), which is the Aviation Authority for Italy, has issued an MCAI in the form of ENAC AD No. 2006-001, Revision 1, dated January 3, 2006 (referred to after this as “the MCAI”), to correct an unsafe condition for the Italian-certificated product. The aviation authority of Italy, with which we have a bilateral agreement, reports that this MCAI cancels Registro Aeronautico Italiano AD 1999-325, which was our basis for issuing FAA AD 99-27-12. They state that the AD should not apply to certain newly redesigned and improved blades. You may obtain further information by examining the MCAI and the service information in the AD docket.

Relevant Service Information

Agusta has issued Bollettino Tecnico No. 109-110, Revision A, dated December 12, 2005 (BT). The actions described in the MCAI are intended to correct the same unsafe condition as that identified in the BT. Agusta advises that the inspection for cracks should only apply to blades, part number (P/N) 109-0132-02-11/-15/-121 with 400 or more flight hours and not to new blade, P/N 109-0132-02-125, because it was designed and certified with improved structural characteristics. The BT continues to stress the importance of performing a detailed inspection of the subject blades for cracks already prescribed in Telegraphic Technical Bulletin No. 109-5, dated January 27, 1987.

FAA's Determination and Requirements of This Proposed AD

This product has been approved by the aviation authority of Italy, and is approved for operation in the United States. Pursuant to our bilateral agreement with this State of Design Authority, we have been notified of the unsafe condition described in the MCAI and service information. We are proposing this AD because we evaluated all pertinent information and determined an unsafe condition exists and is likely to exist or develop on other products of the same type designs.

Differences Between the AD and the MCAI

We have reviewed the MCAI and related service information and, in general, agree with their substance. The MCAI states to comply with the manufacturer's BT. This AD differs from the incorporated portions of the BT as follows:

(1) We refer to the compliance time as hours time-in-service rather than flight hours.

(2) We do not require you to contact the manufacturer.

These differences are highlighted in the “Differences Between the FAA AD and the MCAI” section in the AD.

Costs of Compliance

We estimate that this proposed AD would affect 40 helicopters of U.S. registry. We also estimate that it would take about 2.5 work-hours to inspect the affected blades of each helicopter at an average labor rate of $80 per work-hour. The cost of performing the daily magnifying glass visual inspection is negligible. Based on these figures, we estimate the cost of the proposed AD on U.S. operators to be $48,000, assuming 6 dye-penetrant inspections a year, the cost of performing the daily magnifying glass inspection is negligible, and no cracked blades are found.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 99-27-12, Amendment 39-11493, Docket No. 99-SW-91-AD (65 FR 346, January 5, 2000), and by adding the following new AD:

Agusta S.p.A.: Docket No. FAA-2008-0834; Directorate Identifier 2007-SW-78-AD.

Comments Due Date

(a) We must receive comments by September 5, 2008.

Affected ADs

(b) This AD supersedes AD 99-27-12, Amendment 39-11493, Docket No. 99-SW-91-AD.

Applicability

(c) This AD applies to Model A109A and A109A II helicopters, with a tail rotor blade (blade), part number (P/N) 109-0132-02-11, -15, and -121, with 400 or more hours time-in-service (TIS), installed, certificated in any category.

Reason

(d) Based on the Italian mandatory continued airworthiness information (MCAI) AD, this action contains the same requirement as superseded AD 99-27-12 but narrows the applicability from blade, P/N “109-0132-02-all dash numbers,” to specific P/Ns “109-0132-02-11, -15, and -121.” Thus, this action does not apply to blades with any other P/N, including newly-designated blade, P/N 109-0132-02-125. The actions specified by this AD are intended to continue the requirements to prevent fatigue failure of a blade, loss of a tail rotor, and subsequent loss of control of the helicopter.

Actions and Compliance

(e) Required as indicated, unless already done, do the following actions.

(1) Before further flight, dye-penetrant inspect each blade for a crack by following the Compliance Instructions, Part I, of Agusta S.p.A. Bollettino Tecnico No. 109-110, Revision A, dated December 12, 2005 (BT). Thereafter, at intervals not to exceed 100 hours TIS, dye-penetrant inspect each blade for a crack by following the Compliance Instructions, Part III, of the BT. If you find a crack, replace the cracked blade with an airworthy blade before further flight.

(2) Before the first flight each day, visually inspect each blade for a crack using a 3 to 5 power magnifying glass by following the Compliance Instructions, Part II, of the BT. If you find a crack, replace the cracked blade with an airworthy blade before further flight.

Differences Between the FAA AD and the MCAI

(f) The MCAI states to comply with the manufacturer's BT. This AD differs from the incorporated portions of the BT as follows:

(1) We refer to the compliance time as hours TIS rather than flight hours.

(2) We do not require you to contact the manufacturer.

Other Information

(g) Alternative Methods of Compliance (AMOCs): The Manager, Safety Management Group, Rotorcraft Directorate, FAA, has the authority to approve AMOCs for this AD, if requested using the procedures found in 14 CFR 39.19. Send information to ATTN: Sharon Miles, Aviation Safety Engineer, Regulations and Guidance Group, Fort Worth, Texas 76193-0111, telephone (817) 222-5122, fax (817) 222-5961.

Related Information

(h) Mandatory Continuing Airworthiness Information (MCAI) ENAC AD No. 2006-001, Revision 1, dated January 3, 2006, contains related information.

Subject

(i) Air Transport Association of America (ATA) Code 6410: Main Rotor Blades.

Issued in Fort Worth, Texas, on July 27, 2008.
Mark R. Schilling,
Acting Manager, Rotorcraft Directorate, Aircraft Certification Service.

[FR Doc. E8-17992 Filed 8-5-08; 8:45 am]

BILLING CODE 4910-13-P